DEPARTMENT OF ENERGY

Federal Energy Regulatory Commission

[Project No. 13686-000]

KC Hydro LLC; Notice of Preliminary Permit Application Accepted for Filing and Soliciting Comments, Motions To Intervene, and Competing Applications

October 20, 2010.

On March 23, 2010, and supplemented on May 27, 2010, KC Hydro LLC filed an application for a preliminary permit, pursuant to section 4(f) of the Federal Power Act (FPA), proposing to study the feasibility of the Cline Falls Hydro Project located on the Deschutes River in Deschutes County, Oregon. The sole purpose of a preliminary permit, if issued, is to grant the permit holder priority to file a license application during the permit term. A preliminary permit does not authorize the permit holder to perform any land-disturbing activities or otherwise enter upon lands or waters owned by others without the owners' express permission.

The proposed project will consist of the following: (1) A 5-foot-high, 300-foot-long diversion structure; (2) a pond with a storage capacity of 1 to 2 acre-feet; (3) a canal and box flume, connected to a 96-inch-diameter, 45-foot-long steel penstock; (4) a powerhouse containing a 750-kW Francis turbine/generator; (5) a tailrace leading from a rock chamber located under the turbine to the River; and (6) appurtenant facilities. Annual energy production is estimated to be 807 megawatt-hours.

Applicant Contact: Kelly W. Sackheim, Managing Member, 5096 Cocoa Palm Way, Fair Oaks, CA 95628; phone: (916) 962-2271.

FERC Contact: Kelly Wolcott (202) 502-6480.

The deadline for filing comments, motions to intervene, competing applications (without notices of intent), or notices of intent to file competing applications has been extended 60 days from the issuance of this notice to December 20, 2010. Entities that have already filed comments, motions to intervene, competing applications, or notices of intent to file competing applications do not need to re-file. Competing applications and notices of intent must meet the requirements of 18 CFR 4.36. Comments, motions to intervene, notices of intent, and competing applications may be filed electronically via the Internet. See 18 CFR 385.2001(a)(1)(iii) and the instructions on the Commission's website http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of Commission's Web site at http://www.ferc.gov/docs-filing/elibrary.asp. Enter the docket number (P-13686) in the docket number field to access the document. For assistance, contact FERC Online Support.

Kimberly D. Bose,
Secretary.

[FR Doc. 2010-27123 Filed 10-26-10; 8:45 am]

BILLING CODE 6717-01-P